DEPARTMENT OF DEFENSE

Office of the Secretary

Board of Visitors National Defense University; Notice of Federal Advisory Committee Meeting

AGENCY: Office of the Chairman Joint Chiefs of Staff, Department of Defense.

ACTION: Notice of Federal Advisory Committee meeting.

SUMMARY: The Department of Defense (DoD) is publishing this notice to announce that the following Federal Advisory Committee meeting of the Board of Visitors National Defense University will take place. This meeting will be open to the public.

DATES: Wednesday, February 21, 2018 from 12:00 p.m. to 5:00 p.m. and Thursday, February 22, 2018 from 8:30 a.m. to 12:00 p.m.

ADDRESSES: Marshall Hall, Building 62, Room 155B, the National Defense University, 300 5th Avenue SW, Fort McNair, Washington, DC 20319-5066.

FOR FURTHER INFORMATION CONTACT: Richard Cabrey, (202) 685-0821 (Voice), (202) 685-3920 (Facsimile), richard.m.cabrey.civ@mail.mil; richard.cabrey@ndu.edu; joycelyn.a.stevens.civ@mail.mil; stevensj7@ndu.edu (Email). Mailing address is National Defense University, Fort McNair Washington, DC 20319-5066. Website: http://www.ndu.edu/About/Board-of-Visitors/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Pursuant to 5 U.S.C. 552b and 41 CFR 102-3.140 through 102-3.165, and the availability of space, this meeting is open to the public.

Purpose of the Meeting: The purpose of the meeting will include discussion on accreditation compliance, organizational management, strategic planning, resource management, and other matters of interest to the National Defense University.

Agenda: Wednesday, February 21, 2018 from 12:00 p.m. to 5:00 p.m.: Welcome and Administrative Notes; State of the University Address; Middles States Commission on Higher Education Update; NDU Strategic Plan-Progress Update on the Current Plan (AY 2012-2013 to AY 2017-2018) and an Overview of the Planning Process for the New Plan (AY 2018-2019 to AY 2023-2024); New NDU Strategic Plan Line of Effort 1-Student Experience; New NDU Strategic Plan Line of Effort 2-Quality Workforce; New NDU Strategic Plan Line of Effort 3-Stable Foundation.

Thursday, February 22, 2018 from 8:30 a.m. to 12:00 p.m.: Information Technology Update; New Initiatives at the Eisenhower School; Board Member Feedback; Wrap-up and Closing Remarks.

Meeting Accessibility: Limited space made available for observers will be allocated on a first come, first served basis. Meeting location is handicap accessible.

Written Statements: Pursuant to 41 CFR 102-3.105(j) and 102-3.140, and section 10(a)(3) of the Federal Advisory Committee Act of 1972, written statements to the committee may be submitted to the committee at any time or in response to a stated planned meeting agenda by FAX or email to Ms. Joycelyn Stevens at (202) 685-0079, Fax (202) 685-3920 or StevensJ7@ndu.edu.

Dated: February 2, 2018.
Aaron Siegel,
Alternate OSD Federal Register Liaison Officer, Department of Defense.

[FR Doc. 2018-02434 Filed 2-6-18; 8:45 am]

BILLING CODE 5001-06-P